DEPARTMENT OF VETERANS AFFAIRS

National Research Advisory Council, Notice of Meeting

The Department of Veterans Affairs (VA) gives notice under the Federal Advisory Committee Act, 5 U.S.C ch. 10, that the National Research Advisory Council will hold a meeting on Wednesday, March 6, 2024, by Teams. The teleconference number is 1-872-701-0185, Phone Conference ID: 189 112 632# or the meeting link is https://teams.microsoft.com/l/meetup-join/19%3ameeting_YzBmZGIwMDctOGU3Zi00NjAxLTlkNmQtYTliMTU0YTgwZTUw%40thread.v2/0?context=%7b%22Tid%22%3a%22e95f1b23-abaf-45ee-821d-b7ab251ab3bf%22%2c%22Oid%22%3a%227a4935a6-e7e0-4f23-b7e9-443546f09fa8%22%7d.

The meeting will convene at 9 a.m. and end at 1 p.m. Eastern Standard Time. This meeting is open to the public and will include time reserved for public comment at the end of the meeting. The public comment period will be 30 minutes. Individual stakeholders will be afforded three to five minutes to express their comments.

The purpose of the National Research Advisory Council (NRAC) is to advise the Secretary on research conducted by the Veterans Health Administration, including policies and programs targeting the high priority of Veterans' health care needs.

On March 6, 2024, the agenda will include remarks from the VA Secretary; The NRAC vision for supporting the VA Research Enterprise; the VA Office of Research and Development Annual Report to NRAC; a Sensitive Species Subcommittee update; an overview of collaborations with academic partners and external entities; an overview and discussion of high priority research topics; an update on the status of Psychedelic Assisted Treatment research efforts, and a discussion of NRAC recommendations.

Members of the public may submit written statements for review by the NRAC in advance of the meeting. Public comments may be received no later than close of business February 23, 2024, for inclusion in the official meeting record. Please send statements to Rashelle Robinson, Designated Federal Officer, Office of Research and Development (14RD), Department of Veterans Affairs, 811 Vermont Avenue NW, Washington, DC 20420, at 202-443-5768, or Rashelle.robinson@va.gov. Any member of the public seeking additional information should contact Rashelle Robinson at the above phone number or email address noted above.

Dated: February 12, 2024.
LaTonya L. Small,
Federal Advisory Committee Management Officer.

[FR Doc. 2024-03182 Filed 2-14-24; 8:45 am]

BILLING CODE 8320-01-P